DEPARTMENT OF COMMERCE

Foreign-Trade Zones Board

[S-99-2022]

Foreign-Trade Zone 21—Dorchester County, South Carolina; Application for Subzone; DMA Sales, LLC, Marion and Nichols, South Carolina

An application has been submitted to the Foreign-Trade Zones (FTZ) Board by the South Carolina State Ports Authority, grantee of FTZ 21, requesting subzone status for the facilities of DMA Sales, LLC, located in Marion and Nichols, South Carolina. The application was submitted pursuant to the provisions of the Foreign-Trade Zones Act, as amended (19 U.S.C. 81a-81u), and the regulations of the FTZ Board (15 CFR part 400). It was formally docketed on June 16, 2022.

The proposed subzone would consist of the following sites: Site 1 (25.81 acres) 202 Averette Street, Nichols; and, Site 2 (14.63 acres) 1720 Wellman Road, Marion. No authorization for production activity has been requested at this time. The proposed subzone would be subject to the existing activation limit of FTZ 21.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is August 2, 2022. Rebuttal comments in response to material submitted during the foregoing period may be submitted during the subsequent 15-day period to August 17, 2022.

A copy of the application will be available for public inspection in the “Online FTZ Information Section” section of the FTZ Board's website, which is accessible via www.trade.gov/ftz.

For further information, contact Christopher Kemp at Christopher.Kemp@trade.gov.

Dated: June 16, 2022.
Andrew McGilvray,
Executive Secretary.

[FR Doc. 2022-13392 Filed 6-22-22; 8:45 am]

BILLING CODE 3510-DS-P